FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
October 1, 2014 thru October 31, 2014
10/01/2014
20141617 | G | Nucor Corporation; Gerdau S.A.; Nucor Corporation.
10/02/2014
20141591 | G | Deutsche Telekom AG; AT&T Inc.; Deutsche Telekom AG.
20141592 | G | AT&T Inc.; Deutsche Telekom AG; AT&T Inc.
20141622 | G | AEA Investors Fund V LP; The Resolute Fund II, L.P.; AEA Investors Fund V LP.
20141627 | G | Berkshire Hathaway Inc.; 3G Special Situations Fund II, L.P.; Berkshire Hathaway Inc.
10/03/2014
20141337 | G | Cardtronics, Inc. WSILC, L.L.C.; Cardtronics, Inc.
20141548 | G | Rakuten, Inc.; Ebates Inc.; Rakuten, Inc.
20141550 | G | VEPF IV AIV VI, L.P.; XRS Corporation; VEPF IV AIV VI, L.P.
20141573 | G | Glanbia Co-operative Society Limited Encore Consumer Capital Fund, L.P.; Glanbia Co-operative Society Limited.
20141619 | G | General Mills, Inc.; Annie's, Inc.; General Mills, Inc.
20141631 | G | CCMP Capital Investors III, L.P.; Carlyle Partners IV, L.P.; CCMP Capital Investors III, L.P.
20141632 | G | The Providence Service Corporation; Welsh, Carson Anderson & Stowe XI, L.P.; The Providence Service Corporation.
20141633 | G | John Giuliani; Alliance Data Systems Corporation; John Giuliani.
20141634 | G | Patterson-UTI Energy, Inc.; Platinum Energy Holdings, Inc.; Patterson-UTI Energy, Inc.
20141638 | G | TriMas Corporation; James and Eleanor Randall Trust Dated June 1, 1993; TriMas Corporation.
20141641 | G | AppNexus Inc.; WPP plc; AppNexus Inc.
20141642 | G | WPP plc; AppNexus Inc.; WPP plc.
20141643 | G | Delphi Automotive PLC; Commonwealth Antaya, LLC; Delphi Automotive PLC.
20141658 | G | SAP SE; Concur Technologies, Inc.; SAP SE.
10/06/2014
20141614 | G | Catholic Health Initiatives; Sylvania Franciscan Health; Catholic Health Initiatives.
20141621 | G | The Chernin Group, LLC Fullscreen, Inc.; The Chernin Group, LLC.
10/07/2014
20141645 | G | The Sage Group plc; Great Hill Equity Partners II Limited Partnership; The Sage Group plc.
20141647 | G | Devon Energy Corporation; Chevron Corporation; Devon Energy Corporation.
20141648 | G | Francisco Partners III, L.P.; Vendavo, Inc.; Francisco Partners III, L.P.
10/08/2014
20141535 | G | Athene Holding Ltd.; Norwegian Cruise Line Holdings Ltd.; Athene Holding Ltd.
20141536 | G | AIF VII Euro Holdings, L.P.; Norwegian Cruise Line Holdings Ltd.; AIF VII Euro Holdings, L.P.
20141537 | G | Norwegian Cruise Line Holdings Ltd.; Prestige Cruises International, Norwegian Cruise Line Holdings Ltd.
20141538 | G | AIF VI Euro Holdings, L.P.; Norwegian Cruise Line Holdings Ltd.; AIF VI Euro Holdings, L.P.
10/09/2014
20141620 | G | Actua Corporation; Folio Dynamics Inc.; Actua Corporation.
20141652 | G | The WhiteWave Foods Company; Wasserstein Capital, LP; The WhiteWave Foods Company.
10/10/2014
20141412 | G | Exelon Corporation; Integrys Energy Group, Inc.; Exelon Corporation.
20141557 | G | Ashe Capital Partners, LP; Allison Transmission Holdings, Inc.; Ashe Capital Partners, LP.
20141558 | G | Novartis AG; WaveTec Vision Systems, Inc.; Novartis AG.
10/14/2014
20141615 | G | The Walt Disney Company; Shane Smith; The Walt Disney Company.
20141618 | G | The Hearst Family Trust; Shane Smith; The Hearst Family Trust.
20141656 | G | The Weir Group PLC; Navis Asia Fund V. L.P.; The Weir Group PLC.
20141660 | G | Sola Ltd, Charitable Trust; TerreStar Corporation; Sola Ltd, Charitable Trust.
20141661 | G | UnitedHealth Group Incorporated MedSynergies, Inc.; UnitedHealth Group Incorporated.
20141662 | G | Smurfit Kappa Group plc; The Sanders Family 2011 Irrevocable Trust; Smurfit Kappa Group plc.
20141669 | G | Riverstone Global Energy and Power Fund V (FT), L.P.; Mr. John B. Fitzgibbons; Riverstone Global Energy and Power Fund V (FT), L.P.
20141673 | G | Eugene Kashper; Pabst Corporate Holdings, Inc.; Eugene Kashper.
20150003 | G | EquiPower Resources Corp.; Electric Power Development Co., Ltd.; EquiPower Resources Corp.
20150007 | G | Blackhawk Network Holdings, Inc.; Parago, Inc.; Blackhawk Network Holdings, Inc.
20150008 | G | Sun Pharmaceutical Industries Ltd.; Merck & Co., Inc.; Sun Pharmaceutical Industries Ltd.
20150015 | G | AP ESP Holdings LP; Express Energy Services, LLC; AP ESP Holdings LP.
20150016 | G | Laboratory Corporation of America Holdings; LipoScience, Inc.; Laboratory Corporation of America Holdings.
20150024 | G | Fresenius Medical Care AG & Co, KGaA; Bain Capital Venture Fund 2009, L.P.; Fresenius Medical Care AG & Co. KGaA.
20150031 | G | Encana Corporation; Athlon Energy Inc.; Encana Corporation.
10/15/2014
20141593 | G | TCV VIII, L.P. Shane Smith; TCV VIII. L.P.
20141655 | G | Industrial Growth Partners IV, L.P.; Greenbriar Equity Fund II L.P.; Industrial Growth Partners IV, L.P.
20141665 | G | Microsoft Corporation; Markus Persson; Microsoft Corporation.
20141671 | G | Melrose Industries PLC; Eclipse, Inc.; Melrose Industries PLC.
20150001 | G | The Veritas Capital Fund IV, L.P.; EMCORE Corporation; The Veritas Capital Fund IV, L.P.
20150025 | G | Centerbridge Capital Partners II, L.P.; Bluestem Brands, Inc.; Centerbridge Capital Partners II. L.P.
20150026 | G | Capmark Financial Group Inc.; Bluestem Brands, Inc.; Capmark Financial Group Inc.
10/16/2014
20141612 | G | Stanford University; The Hospital Committee for the Livermore-Pleasanton Area; Stanford University.
20141664 | G | Google Inc.; Credit Karma, Inc.; Google Inc.
20141667 | G | TA XI L.P.; Genstar Capital Partners V, L.P.; TA XI L.P.
20150009 | G | Innospec Inc.; CSL Energy Opportunities Fund I, LP; Innospec Inc.
20150018 | G | Acorda Therapeutics, Inc.; Civitas Therapeutics. Inc.; Acorda Therapeutics, Inc.
20150019 | G | Newell Rubbermaid Inc.; Jim Scott; Newell Rubbermaid Inc.
20150023 | G | STG IV, L.P.; McGraw Hill Financial, Inc.; STG IV, L.P.
20150030 | G | Centerbridge Capital Partners II, L.P.; Capmark Financial Group Inc.; Centerbridge Capital Partners II, L.P.
10/17/2014
20141569 | G | Howard W. Lutnick; GFI Group Inc.; Howard W. Lutnick.
20150010 | G | Liberty Media Corporation; Live Nation Entertainment, Inc.; Liberty Media Corporation.
10/20/2014
20141623 | G | American Realty Capital Properties, Inc.; Nicholas Schorsch, a natural person; American Realty Capital Properties, Inc.
20141624 | G | Nicholas Schorsch, a natural person; American Realty Capital Properties, Inc.; Nicholas Schorsch, a natural person.
20141626 | G | CSWG Trust; Associated Wholesalers, Inc.; CSWG Trust.
20141636 | G | AT&T Inc. Verizon Communications Inc.; AT&T Inc.
20141637 | G | Verizon Communications Inc. AT&T Inc; Verizon Communications Inc.
20150029 | G | Supervalu Inc.; Associated Wholesalers, Inc.; Supervalu Inc.
20150032 | G | Carlyle Power Southeast Gen, LLC; ArcLight Energy Partners Fund III, L.P.; Carlyle Power Southeast Gen, LLC.
20150033 | G | Bozzuto's Inc.; Associated Wholesalers, Inc.; Bozzuto's Inc.
20150034 | G | Energy Transfer Equity, L.P.; Rosna Binti Yusoff; Energy Transfer Equity, L.P.
20150035 | G | Starwood Energy Infrastructure Fund II Investor, LLC; Exelon Corporation; Starwood Energy Infrastructure Fund II Investor, LLC.
20150036 | G | DTZ Investment Holdings LP Cassidy Turley, Inc., a Missouri corporation; DTZ Investment Holdings LP.
20150041 | G | Sigma-Aldrich Corporation; Nora B. Lacey; Sigma-Aldrich Corporation.
20150050 | G | UBM plc Advanstar Global LLC; UBM plc.
20150054 | G | Agnaten SE; Einstein Noah Restaurant Group, Inc.; Agnaten SE.
10/21/2014
20150042 | G | NORMA Group SE; NDS Holdings, L.P.; NORMA Group SE.
20150043 | G | Solaris Holding Corporation; HandsOn Fund 4 I, LLC; Solaris Holding Corporation.
10/22/2014
20150014 | G | Bright Food (Group) Co., Ltd.; SALOV SpA; Bright Food (Group) Co., Ltd.
20150021 | G | North Tide Capital Master, LP; Select Medical Holdings Corporation; North Tide Capital Master, LP.
20150037 | G | Snow Phipps II, L.P.; Palladium Equity Partners III, L.P.; Snow Phipps II, L.P.
20150047 | G | Wellspring Capital Partners V, L.P.; Qualitor Component Holdings, L.L.C.; Wellspring Capital Partners V, L.P.
20150055 | G | Nir Zuk; Palo Alto Networks, Inc.; Nir Zuk.
10/23/2014
20141650 | G | Elliott International Limited; Family Dollar Stores, Inc.; Elliott International Limited.
20141651 | G | Elliott Associates, L.P; Family Dollar Stores, Inc.; Elliott Associates, L.P.
20150002 | G | AMAG Pharmaceuticals, Inc.; Lumara Health, Inc.; AMAG Pharmaceuticals, Inc.
20150045 | G | The Resolute Fund III, L.P.; Steven J. Belford; The Resolute Fund III, L.P.
20150046 | G | The Resolute Fund III, L.P. David A. Belford; The Resolute Fund III, L.P.
10/24/2014
20141408 | G | Wisconsin Energy Corporation Integrys Energy Group, Inc.; Wisconsin Energy Corporation.
20141640 | G | Wisconsin Energy Corporation; American Transmission Company LLC; Wisconsin Energy Corporation.
20141659 | G | Liberty Broadband Corporation Charter Communications, Inc.; Liberty Broadband Corporation.
20150011 | G | John C. Malone; Liberty Broadband Corporation; John C. Malone.
20150049 | G | HCA Holdings, Inc.. David J. Walter and Jennifer L. Walter; HCA Holdings, Inc.
20150063 | G | Halmont Properties Corporation; Revel AC, Inc.; Halmont Properties Corporation.
20150065 | G | Pilot Travel Centers LLC; Mr. Clifton L. Thomas, Jr.; Pilot Travel Centers LLC.
20150068 | G | George Beasley Estate Reduction Trust; Mr. Sumner Redstone; George Beasley Estate Reduction Trust.
20150069 | G | Mr. Sumner Redstone; George Beasley Estate Reduction Trust; Mr. Sumner Redstone.
20150072 | G | Sentinel Capital Partners V, L.P.; Morganthaler Partners VIII, L.P.; Sentinel Capital Partners V, L.P.
20150074 | G | Andrew L. Barroway; 1758060 Alberta Limited Partnership; Andrew L. Barroway.
10/28/2014
20150052 | G | Genesis Energy, L.P.; Altema Core Capital Assets Fund, L.P.; Genesis Energy, L.P.
20150076 | G | Friedman Fleischer & Lowe Capital Partners III, L.P.; Hans Koehle; Friedman Fleischer & Lowe Capital Partners III, L.P.
20150077 | G | FourPoint Holdings, LLC; Linn Energy, LLC; FourPoint Holdings, LLC.
20150081 | G | Hennessy Capital Acquisition Corp.; Cerberus Institutional Partners, L.P.; Hennessy Capital Acquisition Corp.
20150082 | G | Hay Island Holding Corporation; Jonathan Drew Sann; Hay Island Holding Corporation.
20150083 | G | Hay Island Holding Corporation; Marvin Samel; Hay Island Holding Corporation.
10/29/2014
20150071 | G | Hockey Investments, L.P. CSIG Holding Company, LLC; Hockey Investments, L.P.
20150079 | G | Constellium N.V.; Silver Knot, LLC; Constellium N.V.
10/30/2014
20141672 | G | Thomas W. Smith World Acceptance Corporation; Thomas W. Smith.
20150038 | G | Vista Equity Partners Fund V, L.P.; TIBCO Software Inc.; Vista Equity Partners Fund V, L.P.
20150057 | G | Bertelsmann Stiftung; VFF I AIV III, L.P.; Bertelsmann Stiftung.
20150058 | G | Global Partners LP; The Warren Alpert Foundation Global Partners LP.
20150064 | G | Siemens Aktiengesellschaft; Camstar Systems, Inc.; Siemens Aktiengesellschaft.
20150070 | G | Kinder Morgan Energy Partners, L.P.; Thomas B. Crowley, Jr.; Kinder Morgan Energy Partners, L.P.
10/31/2014
20140907 | G | Mercury New Holdco Inc.; LIN Media LLC; Mercury New Holdco Inc.
20141145 | G | H.I.G. Bayside Debt & LBO Fund II, L.P.; Crestview Partners, L.P.; Bayside Debt & LBO Fund II, L.P.
20150080 | G | Actavis plc; Durata Therapeutics, Inc.; Actavis plc.
20150085 | G | Eagle Materials Inc.; Original CRS LLC; Eagle Materials Inc.
20150087 | G | Mitsubishi Heavy Industries, Ltd.; International Metals Technologies Limited; Mitsubishi Heavy Industries, Ltd.
20150088 | G | L'Oreal S.A.; Carol's Daughter Holdings, LLC; L'Oreal S.A.
20150092 | G | Tesoro; QEP Resources, Inc.; Tesoro.
20150093 | G | ICF International, Inc.; OCO Holdings, Inc.; ICF International, Inc.
20150096 | G | MegaChips Corporation; SiTime Corporation; MegaChips Corporation.
20150106 | G | One Rock Capital Partners, LP; Bruckmann, Rosser, Sherill & Co. II, L.P.; One Rock Capital Partners, LP.

FOR FURTHER INFORMATION CONTACT: Renee Chapman, Contact Representative, or Theresa Kingsberry, Legal Assistant, Federal Trade Commission, Premerger Notification Office, Bureau of Competition, Room CC-5301, Washington, DC 20024, (202) 326-3100.

By Direction of the Commission.
Donald S. Clark,
Secretary.

[FR Doc. 2014-27025 Filed 11-14-14; 8:45 am]

BILLING CODE 6750-01-M